DEPARTMENT OF LABOR

Employment and Training Administration

[TA-W-38,565 and TA-W-38,565A]

Outboard Marine Corp. (OMC), Waukegan, Illinois, Outboard Marine Corp. (OMC), The Ralph Evinrude Test Center, Stuart, Florida; Amended Certification Regarding Eligibility To Apply for Worker Adjustment Assistance

In accordance with section 223 of the Trade Act of 1974 (19 USC 2273) the Department of Labor issued a Notice of Certification Regarding Eligibility to Apply for Worker Adjustment Assistance on April 30, 2001, applicable to workers of Outboard Marine Corp. (OMC), Waukegan, Illinois. The notice was published in the Federal Register on May 18, 2001 (66 FR 27690).

At the request of the petitioners, the Department reviewed the certification for workers of the subject firm. The workers are engaged in the production of marine products, primarily outboard motors and parts.

New information shows that worker separations occurred at The Ralph Evinrude Test Center, Stuart, Florida facility of Outboard Marine Corp. (OMC). Workers of Stuart, Florida provided research, development and quality control support services to Outboard Marine Corp.'s production facilities, including Waukegan, Illinois.

Accordingly, the Department is amending the certification to include the workers of The Ralph Evinrude Test Center, Stuart, Florida facility of Outboard Marine Corp. (OMC).

The intent of the Department's certification is to include all workers of Outboard Marine Corp. (OMC), Waukegan, Illinois who were adversely affected by increased imports.

The amended notice applicable to TA-W-38,565 is hereby issued as follows:

All workers of Outboard Marine Corp. (OMC), Waukegan, Illinois (TA-W-38,565) and outboard Marine Corp. (OMC), The Ralph Evinrude Test Center, Stuart Florida (TA-W-38,565A). who became totally or partially separated from employment on or after January 5, 2000, through April 30, 2003, are eligible to apply for adjustment assistance under Section 223 of the Trade Act of 1974.

Signed at Washington, DC this 16th day of November, 2001.
Linda G. Poole,
Certifying Officer, Division of Trade Adjustment Assistance.

[FR Doc. 01-30059 Filed 12-4-01; 8:45 am]

BILLING CODE 4510-30-M